DEPARTMENT OF ENERGY

Office of Science; Biological and Environmental Research Advisory Committee

AGENCY: Department of Energy.

ACTION: Notice of open meeting.

SUMMARY: This notice announces a meeting of the Biological and Environmental Research Advisory Committee. Federal Advisory Committee Act (Public Law 92-463, 86 Stat. 770) requires that public notice of these meetings be announced in the Federal Register.

DATES: Thursday, November 13, 2003, 8:30 a.m. to 5 p.m.; and Friday, November 14, 2003, 8:30 a.m. to 12 p.m.

ADDRESSES: American Geophysical Union, 2000 Florida Avenue, NW., Washington, DC 20009.

FOR FURTHER INFORMATION CONTACT: Dr. David Thomassen (301-903-9817; david.thomassen@science.doe.gov), or Ms. Shirley Derflinger (301-903-0044; shirley.derflinger@science.doe.gov), Designated Federal Officers, Biological and Environmental Research Advisory Committee, U.S. Department of Energy, Office of Science, Office of Biological and Environmental Research, SC-70/Germantown Building, 1000 Independence Avenue, SW., Washington, DC 20585-1290. The most current information concerning this meeting can be found on the Web site: http://www.science.doe.gov/ober/berac/announce.html.

SUPPLEMENTARY INFORMATION: Purpose of the Meeting: To provide advice on a continuing basis to the Director, Office of Science of the Department of Energy, on the many complex scientific and technical issues that arise in the development and implementation of the Biological and Environmental Research Program.

Tentative Agenda

Thursday, November 13, and Friday, November 14, 2003:

• Comments from Dr. Raymond Orbach, Director, Office of Science

• Report by Dr. Ari Patrinos, Associate Director of Science for Biological and Environmental Research

• Discussion of DOE nanotechnology research by Dr. Pat Dehmer, Associate Director of Science for Basic Energy Sciences

• Status report of current BERAC charges

• Discussion of U.S. Climate Change Science Program Strategic Plan and Technology Program

• Discussion of Joint Genome Institute's Production Genomics Facility transition to a DNA sequencing user facility

• Comments from Professor Andre Syrota, Director of Life Sciences for the French Atomic Energy Commission

• New Business

• Public comment (10 minute rule)

Public Participation: The day and a half meeting is open to the public. If you would like to file a written statement with the Committee, you may do so either before or after the meeting. If you would like to make oral statements regarding any of the items on the agenda, you should contact David Thomassen or Shirley Derflinger at the address or telephone numbers listed above. You must make your request for an oral statement at least five business days before the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room, IE-190, Forrestal Building, 1000 Independence Avenue, SW., Washington, DC, between 9 a.m. and 4 p.m., Monday through Friday, except Federal holidays.

Issued in Washington, DC on October 23, 2003.
Rachel M. Samuel,
Deputy Advisory Committee, Management Officer.

[FR Doc. 03-27144 Filed 10-27-03; 8:45 am]

BILLING CODE 6450-01-P